DEPARTMENT OF LABOR

Employment and Training Administration

[TA-W-52,452]

Elastex, A Facility of Elastic Corporation of America, Inc., Woolwine, VA; Notice of Termination of Investigation

Pursuant to Section 221 of the Trade Act of 1974, as amended, an investigation was initiated on August 5, 2003 in response to a worker petition filed by a company official on behalf of workers at Elastex, a facility of Elastic Corporation of America, Inc., Woolwine, Virginia.

The petitioner has requested that the petition be withdrawn. Consequently, the investigation has been terminated.

Signed at Washington, DC this 3rd day of September 2003.
Richard Church,
Certifying Officer, Division of Trade Adjustment Assistance.

[FR Doc. 03-24696 Filed 9-29-03; 8:45 am]

BILLING CODE 4510-30-P